DEPARTMENT OF THE INTERIOR

U.S. Geological Survey

[Billing Code: 2011-GX11GG009950000]

National Earthquake Prediction Evaluation Council (NEPEC)

AGENCY: U.S. Geological Survey, Interior.

ACTION: Notice of meeting.

SUMMARY: Pursuant to Public Law 96-472, the National Earthquake Prediction Evaluation Council (NEPEC) will hold a 1-day meeting on April 16, 2011. The meeting will be held at the Crowne Plaza Memphis Downtown, 300 North Second Street, Memphis, Tennessee 38105. The Council is comprised of members from academia and the Federal Government. The Council shall advise the Director of the U.S. Geological Survey on proposed earthquake predictions, on the completeness and scientific validity of the available data related to earthquake predictions, and on related matters as assigned by the Director. Additional information about the Council may be found at: http://earthquake.usgs.gov/aboutus/nepec/.

At the meeting, the Council will receive a report from the Independent Expert Panel on New Madrid Seismic Zone Earthquake Hazards, a subcommittee charged with commenting on the level of hazard posed by future large earthquakes in the region and on priorities for future research to better constrain that hazard. The Council may also receive briefings on other topics relating to earthquakes in the Central U.S., on earthquake swarms recently active in Arkansas, on communication of seismic hazard in the Pacific Northwest, on the project intended to deliver an updated Uniform California Earthquake Rupture Forecast (UCERF3) in summer 2012, on the recent earthquake and tsunami in Japan, and on other topics.

Workshops and meetings of the NEPEC are open to the public. A draft workshop agenda is available on request (contact information below). In order to ensure sufficient seating and hand-outs, it is requested that visitors pre-register by April 13. Members of the public wishing to make a statement to the Council should provide notice of that intention by April 13 so that time may be allotted in the agenda.

DATES: April 16, 2011, commencing at 8:30 a.m. and adjourning at 5:30 p.m. Times are approximate; guests are encouraged to contact the Executive Secretary for a copy of the agenda.

FOR FURTHER INFORMATION CONTACT: Dr. Michael Blanpied, Executive Secretary, National Earthquake Prediction Evaluation Council U.S. Geological Survey, MS 905, 12201 Sunrise Valley Drive, Reston, Virginia 20192, (703) 648-6696, E-mail: mblanpied@usgs.gov.

Dated: March 30, 2011.
David J. Newman,
USGS Federal Register Liaison.

[FR Doc. 2011-7995 Filed 4-5-11; 8:45 am]

BILLING CODE 4311-AM-P